ENVIRONMENTAL PROTECTION AGENCY

[FRL-7957-4]

Proposed CERCLA Administrative Agreement for Recovery of Past Response Costs; A-American Environmental Superfund Removal Site

AGENCY: Environmental Protection Agency (EPA).

ACTION: Notice; request for public comment.

SUMMARY: In accordance with section 122(i) of the Comprehensive Environmental Response, Compensation, and Liability Act, as amended by the Superfund Amendments and Reauthorization Action (“CERCLA”), 42 U.S.C. 9622(i), notice is hereby given of a proposed Administrative Order on Consent (“AOC,” Region 9 Docket No. 9-2005-0014) pursuant to section 122(h) of CERCLA concerning the A-American Environmental Removal Site (the “Site”), located in Alhambra, California. The respondents to the AOC are thirty-one among approximately 600 parties that arranged for the disposal of hazardous substances at the Site, for which EPA incurred response costs. The respondents are: United States Department of Veterans Affairs; Alger Manufacturing Company, Inc.; American Fabrication Corp.; City of Los Angeles, Dept. of Public Works; County of Los Angeles; Duthie Electric; Epmar Corporation; EZ Lube, Inc.; FedEx Ground Package System, Inc.; Flint Ink North America Corporation; Forrest Machining, Inc.; Graphic Center; Gruber Systems, Inc.; Haskel International Inc.; Jacuzzi Whirlpool Bath, Inc.; Los Angeles Chemical Co.; Los Angeles County Metropolitan Transportation Authority; M C Gill Corp.; NeoMPS, Inc.; Opi Products Inc.; Remo, Inc.; Santa Catalina Island Company; Sundance Spas, Inc.; Ultra-Flex Moulding Inc.; Vista Paint Corp.; California Acrylic Inc.; Sterigenics EO, Inc.; Mansfield Plumbing Products, LLC; Semtech Corp.; State of California, Office of State Publishing; and State of California, Dept. of Transportation.

Through the proposed AOC, these settling parties will reimburse the United States $259,472 of its response costs, which total $683,755. The AOC provides the settling parties with a covenant not to sue and contribution protection for the costs and the removal action at the Site. The AOC will supplement EPA's previous cost recovery settlement, EPA Docket No. 9-2004-0014.

For thirty (30) day following the date of publication of this Notice, the Agency will receive written comments relating to the proposed AOC. The Agency's response to any comments will be available for public inspection at EPA'S Region IX offices, located at 75 Hawthorne Street, San Francisco, California 94105.

DATES: Comments must be submitted on or before September 22, 2005.

ADDRESSES: The proposed Agreement may be obtained from Judith Winchell, Docket Clerk, telephone (415) 972-3124. Comments regarding the proposed Agreement should be addressed to Judith Winchell (SFD-7) at EPA Region IX, 75 Hawthorne Street, San Francisco, California 94105, and should reference the A-American Environmental Superfund Removal Site, Alhambra, California, and USEPA Docket No. 9-2005-0014.

FOR FURTHER INFORMATION CONTACT: J. Andrew Helmlinger, Office of Regional Counsel, telephone (415) 972-3904, USEPA Region IX, 75 Hawthorne Street, San Francisco, California 94105.

Dated: August 12, 2005.
Keith A. Takata,
Director, Superfund Division.

[FR Doc. 05-16684 Filed 8-22-05; 8:45 am]

BILLING CODE 6560-50-P